DEPARTMENT OF AGRICULTURE

Forest Service

Proposed Recreation Fee Sites

AGENCY: Forest Service, Agriculture (USDA).

ACTION: Notice.

SUMMARY: The Prescott National Forest is proposing to establish several recreation fee sites. Proposed recreation fees collected at the proposed recreation fee sites would be used for operation, maintenance, and improvement of the sites. An analysis of nearby recreation fee sites with similar amenities shows the proposed recreation fees that would be charged at the proposed recreation fee sites are reasonable and typical of similar recreation fee sites in the area.

DATES: If approved, the proposed recreation fee sites and proposed recreation fees would be established no earlier than six months following the publication of this notice in the Federal Register.

ADDRESSES: Prescott National Forest, Attention: Julie Rowe, 735 N Hwy. 89, Chino Valley, AZ 86323.

FOR FURTHER INFORMATION CONTACT: Julie Rowe, Recreation Program Manager, 928-856-2687, julie.rowe@usda.gov.

SUPPLEMENTARY INFORMATION: The Federal Lands Recreation Enhancement Act (16 U.S.C. 6803(b)) requires the Forest Service to publish in the Federal Register a six-month advance notice of establishment of recreation fee sites. In accordance with Forest Service Handbook 2309.13, Chapter 30, the Forest Service will publish the proposed recreation fee sites and proposed recreation fees in local newspapers and other local publications for public comment. Most of the proposed recreation fees would be spent where they are collected to enhance the visitor experience at the proposed recreation fee sites.

A proposed standard amenity recreation fee of $5 per day per vehicle would be charged at White Spar, Grief Hill, Bean Peaks, Bignotti, Beasley Flat, Black Canyon, and Skidmore day use developed recreation sites. The Prescott National Forest Day Use Pass and the America the Beautiful—the National Parks and Federal Recreational Lands Pass would be honored at these standard amenity recreation fee sites.

Expenditures of recreation fees collected at the proposed recreation fee sites would enhance recreation opportunities, improve customer service, and address maintenance needs. Once public involvement is complete, the proposed recreation fee sites and proposal recreation fees will be reviewed by a Recreation Resource Advisory Committee prior to a final decision and implementation. Day use developed recreation sites could be reserved online at www.recreation.gov or by calling 877-444-6777. Reservations would cost $8.00 per reservation.

Dated: July 15, 2024.
Jacqueline Emanuel,
Associate Deputy Chief, National Forest System.

[FR Doc. 2024-16371 Filed 7-24-24; 8:45 am]

BILLING CODE 3411-15-P